DEPARTMENT OF COMMERCE

Patent and Trademark Office

37 CFR Parts 1 and 41

[Docket No. 2003-C-027]

RIN 0651-AB70

Revision of Patent Fees for Fiscal Year 2005; Correction

AGENCY: Patent and Trademark Office, Commerce.

ACTION: Final rule; correction.

SUMMARY: The United States Patent and Trademark Office published in the Federal Register of August 27, 2004, a final rule revising certain patent fee amounts for fiscal year 2005. Inadvertently, an incorrect fee amount was stated for an appeal fee in section 41.20(b)(3). This notice corrects this appeal fee amount for fiscal year 2005.

DATES: Effective October 1, 2004.

FOR FURTHER INFORMATION CONTACT: Tamara McClure by e-mail at Tamara.McClure@uspto.gov, by telephone at (703) 308-5075, or by fax at (703) 308-5077.

SUPPLEMENTARY INFORMATION: A final rule revising certain patent fee amounts for fiscal year 2005 was published as FR Doc. 69-52604 in the Federal Register of August 27, 2004 (69 FR 52604). The final rule contains an error for an appeal fee in section 41.20(b)(3). The fee amount for fiscal year 2005 was incorrectly stated as $170.00 for a small entity, and $340.00 for other than a small entity. This correction revises this appeal fee amount.

In rule FR Doc. 69-52604 published on August 27, 2004 (69 FR 52604), make the following correction. On page 52606, in the third column, change the appeal fee amount for 41.20(b)(3) to $150.00 for a small entity, and $300.00 for other than a small entity.

Dated: September 8, 2004.
Jon W. Dudas,
Under Secretary of Commerce for Intellectual Property and Director of the United States Patent and Trademark Office.

[FR Doc. 04-20766 Filed 9-14-04; 8:45 am]

BILLING CODE 3510-16-P